ELECTION ASSISTANCE COMMISSION

Sunshine Act Notice

AGENCY: U.S. Election Assistance Commission.

ACTION: Notice of public meeting agenda.

Date and Time: Thursday, November 5, 2009; 10 a.m.-12 p.m. EDT (Morning Session); 1 p.m.-3 p.m. EDT (Afternoon Session).

Place: U.S. Election Assistance Commission, 1225 New York Ave, NW., Suite 150, Washington, DC 20005. (Metro Stop: Metro Center)

Agenda: The Commission will hold a public meeting to consider administrative matters. The Commission will discuss the 2008 Election Day Survey Report and the 2008 UOCAVA Report. The Commission will discuss the Election Management Guidelines Chapters. The Commission will receive a presentation and consider translations of the NVRA form.

Members of the public may observe but not participate in EAC meetings unless this notice provides otherwise. Members of the public may use small electronic audio recording devices to record the proceedings. The use of other recording equipment and cameras requires advance notice to and coordination with the Commission's Communications Office.*

* View EAC Regulations Implementing Government in the Sunshine Act.

This meeting and hearing will be open to the public.

Person to Contact for Information: Bryan Whitener, Telephone: (202) 566-3100.

Thomas Wilkey,
Executive Director, U.S. Election Assistance Commission.

[FR Doc. E9-26136 Filed 10-27-09; 11:15 am]

BILLING CODE 6820-KF-P